DEPARTMENT OF THE TREASURY

Agency Information Collection Activities; Submission for OMB Review; Comment Request; Homeowner Assistance Fund (HAF) Program Quarterly and Annual Report Forms

AGENCY: Departmental Offices, U.S. Department of the Treasury.

ACTION: Notice.

SUMMARY: The Department of the Treasury, as part of its continuing effort to reduce paperwork and respondent burden, invites the general public and other federal agencies to comment on the proposed information collections listed below, in accordance with the Paperwork Reduction Act of 1995.

DATES: Comments should be received on or before August 29, 2025 to be assured of consideration.

ADDRESSES: Written comments and recommendations for the proposed information collection should be sent within 30 days of publication of this notice to www.reginfo.gov/public/do/PRAMain. Find this particular information collection by selecting “Currently under 30-day Review—Open for Public Comments” or by using the search function.

Copies of the submissions may be obtained from Melody Braswell by emailing PRA@treasury.gov, calling (202) 622-1035, or viewing the entire information collection request at www.reginfo.gov.

SUPPLEMENTARY INFORMATION:

Title: The Homeowner Assistance Fund (HAF) Quarterly and Annual Reports, instructions and Treasury's Portal User Guide.

OMB Control Number: 1505-0269.

Type of Review: Extension without change of a currently approved collection.

Description: The HAF authorized by the American Rescue Plan Act, provides $9.961 billion to support homeowners facing financial hardship associated with COVID-19. HAF funds were distributed to states, U.S. Territories, and Indian Tribes. Funds from HAF may be used for assistance with mortgage payments, homeowner's insurance, utility payments, and other specified purposes. HAF grantees must submit quarterly and annual report forms on their utilization of HAF award funds. The information can be submitted electronically via Treasury's Portal. The information collection will permit Treasury to effectively monitor the HAF grantees' compliance with the requirements of the HAF Award Terms.

Form: None.

Affected Public: State, Tribal and Territorial Governments.

Estimated Number of Respondents: 1,442.

Frequency of Response: As required.

Estimated Total Number of Annual Responses: 1,698.

Estimated Average Time per Response: 3 hours.

Estimated Total Annual Burden Hours: 5,527 hours.

(Authority: 44 U.S.C. 3501 et seq.)

Melody Braswell,
Treasury PRA Clearance Officer.

[FR Doc. 2025-14424 Filed 7-29-25; 8:45 am]

BILLING CODE 4810-AK-P